ENVIRONMENTAL PROTECTION AGENCY

40 CFR Part 94

[EPA-HQ-OAR-2007-0120; FRL-8306-6]

RIN 2060-A026

Change in Deadline for Rulemaking To Address the Control of Emissions From New Marine Compression-Ignition Engines at or Above 30 Liters per Cylinder

AGENCY: Environmental Protection Agency (EPA).

ACTION: Proposed Rule.

SUMMARY: A January 2003 final rule established the first U.S. emission standards for new compression-ignition Category 3 marine engines, those with a displacement at or above 30 liters per cylinder displacement. It also established a deadline of April 27, 2007 for EPA to promulgate a new tier of emission standards for these engines as determined appropriate under Clean Air Act (CAA) section 213(a). This rulemaking schedule was intended to allow EPA time to consider the state of technology that may permit deeper emission reductions and the status of international action for more stringent standards. Since 2003, we have continued to gain a greater understanding of the technical issues described in the final rule and to assess the continuing efforts of manufacturers to apply advanced emission control technologies to these very large engines, through ongoing discussions with various stakeholders. In addition, we have continued to work with and through the International Maritime Organization (IMO) toward more stringent international emission standards that would apply to all new marine diesel engines on ships engaged in international transportation. IMO is an important forum for EPA to gather new information and data regarding emission control technologies, costs, and other information on Category 3 engines and vessels. IMO is also important because the majority of ships used in international commerce are flagged in other nations. Due to the length of time necessary to assess advanced emission control technologies much of the information that we believe is necessary to develop more stringent Category 3 marine diesel engines standards has only become available recently and we expect more information to come to light in the course of the current negotiations underway at the IMO. Therefore, EPA is proposing a new deadline for the rulemaking that will consider the next tier of Category 3 marine diesel engine standards. Under this new schedule, EPA would adopt a final rule by December 17, 2009. In the “Rules and Regulations” section of this Federal Register, we are making this revision as a direct final rule without a prior proposed rule. If we receive no adverse comment, we will not take further action on this proposed rule.

DATES: Written comments must be received by May 29, 2007. If a public hearing is requested no later than May 17, 2007, it will be held at a time and place to be published in the Federal Register.

ADDRESSES: Submit your comments, identified by Docket ID No. EPA-HQ-OAR-2007-0120, by mail to Environmental Protection Agency, Mail Code: 6102T, 1200 Pennsylvania Ave., NW., Washington, DC, 20460. Please include two copies. Comments may also be submitted electronically or through hand delivery/courier, or a public hearing may be requested, by following the detailed instructions in the ADDRESSES section of the direct final rule located in the rules section of this Federal Register.

FOR FURTHER INFORMATION CONTACT: Michael Samulski, Assessment and Standards Division, Office of Transportation and Air Quality, 2000 Traverwood Drive, Ann Arbor, MI, 48105; telephone number: (734) 214-4532; fax number: (734) 214-4050; e-mail address: samulski.michael@epa.gov.

SUPPLEMENTARY INFORMATION:

I. Why Is EPA Issuing This Proposed Rule?

This document proposes to take action on changing the regulatory deadline for a rulemaking to address the control of emissions from new marine compression-ignition engines at or above 30 liters per cylinder. We have published a direct final rule making this revision in the “Rules and Regulations” section of this Federal Register because we view this as a relatively noncontroversial action and anticipate no adverse comment. We have explained our reasons for this action in the preamble to the direct final rule.

If we receive no adverse comment or a request for a public hearing, we will not take further action on this proposed rule. Otherwise, we will withdraw the direct final rule and it will not take effect. We would address all public comments in any subsequent final rule based on this proposed rule.

We do not intend to institute a second comment period on this action. Any parties interested in commenting must do so at this time. For further information, please see the information provided in the ADDRESSES section of this document.

II. Does This Action Apply to Me?

This action will affect companies that manufacture, sell, or import into the United States new marine compression-ignition engines for use on vessels flagged or registered in the United States; companies and persons that make vessels that will be flagged or registered in the United States and that use such engines; and the owners or operators of such U.S. vessels. This action may also affect companies and persons that rebuild or maintain these engines. Affected categories and entities include the following:

Category | NAICS code ᵃ | Examples of potentially affected entities
Industry | 333618 | Manufacturers of new marine diesel engines.
Industry | 336611 | Manufacturers of marine vessels.
Industry | 811310 | Engine repair and maintenance.
Industry | 483 | Water transportation, freight and passenger.
ᵃ North American Industry Classification System (NAICS).

This table is not intended to be exhaustive, but rather provides a guide for readers regarding entities likely to be regulated by this action. To determine whether particular activities may be affected by this action, you should carefully examine the regulations. You may direct questions regarding the applicability of this action as noted in FOR FURTHER INFORMATION CONTACT.

III. Summary of Rule

This proposed rule would make a revision to the regulations to implement the following amendment:

• Extend the regulatory deadline to promulgate a new tier of standards for Category 3 marine engines by amending § 94.8(a)(2)(ii), so that the date is on or before December 17, 2009.

For additional discussion of the proposed rule change, see the direct final rule EPA has published in the “Rules and Regulations” section of today's Federal Register. This proposal incorporates by reference all the reasoning, explanation, and regulatory text from the direct final rule. Furthermore, elsewhere in today's Federal Register, EPA is publishing an Advance Notice of Proposed Rulemaking which describes EPA's current thinking with regard to potential new requirements for C3 marine engines and identifies and discusses a number of important issues upon which EPA is seeking comment.

IV. Statutory and Executive Order Reviews

A. Executive Order 12866: Regulatory Planning and Review

This proposed rule is not a “significant regulatory action” under the terms of Executive Order (EO) 12866 (58 FR 51735, October 4, 1993) and is therefore not subject to review under the EO. This proposed rule merely changes the regulatory schedule for a rulemaking to address emissions from Category 3 marine engines. There are no new costs associated with this proposed rule.

B. Paperwork Reduction Act

This action does not impose any new information collection burden. This direct final rule merely changes the regulatory schedule for a rulemaking to address emissions from Category 3 marine engines. However, the Office of Management and Budget (OMB) has previously approved the information collection requirements contained in the existing regulations [40 CFR 94] under the provisions of the Paperwork Reduction Act, 44 U.S.C. 3501 et seq. and has assigned OMB control number 2060-0287, EPA ICR number 1684.08. A copy of the OMB approved Information Collection Request (ICR) may be obtained from Susan Auby, Collection Strategies Division; U.S. Environmental Protection Agency (2822T); 1200 Pennsylvania Ave., NW., Washington, DC 20460 or by calling (202) 566-1672.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of this proposed rule on small entities, a small entity is defined as: (1) A small business that meet the definition for business based on SBA size standards at 13 CFR 121.201; (2) a small governmental jurisdiction that is a government of a city, county, town, school district or special district with a population of less than 50,000; and (3) a small organization that is any not-for-profit enterprise which is independently owned and operated and is not dominant in its field.

After considering the economic impacts of today's proposed rule on small entities, I certify that this action will not have a significant economic impact on a substantial number of small entities. In determining whether a rule has a significant economic impact on a substantial number of small entities, the impact of concern is any significant adverse economic impact on small entities, since the primary purpose of the regulatory flexibility analyses is to identify and address regulatory alternatives “which minimize any significant economic impact of the rule on small entities.” 5 U.S.C. 603 and 604. Thus, an agency may certify that a rule will not have a significant economic impact on a substantial number of small entities if the rule relieves regulatory burden, or otherwise has a positive economic effect on all of the small entities subject to the rule.

This proposed rule merely changes the regulatory schedule for a rulemaking to address emissions from Category 3 marine engines. We have therefore concluded that today's proposed rule will relieve regulatory burden for all affected small. We continue to be interested in the potential impacts of the proposed rule on small entities and welcome comments on issues related to such impacts.

D. Unfunded Mandates Reform Act

This proposed rule contains no federal mandates for state, local, tribal governments, or the private sector as defined by the provisions of Title II of the UMRA. The proposed rule imposes no enforceable duties on any of these governmental entities. This proposed rule contains no regulatory requirements that would significantly or uniquely affect small governments. EPA has determined that this proposed rule contains no federal mandates that may result in expenditures of more than $100 million to the private sector in any single year. This proposed rule merely changes the regulatory schedule for a rulemaking to address emissions from Category 3 marine engines. See the direct final rule EPA has published in the “Rules and Regulations” section of today's Federal Register for a more extensive discussion of UMRA policy.

E. Executive Order 13132: Federalism

This proposed rule does not have federalism implications. It will not have substantial direct effects on the States, on the relationship between the national government and the States, or on the distribution of power and responsibilities among the various levels of government, as specified in Executive Order 13132. This proposed rule merely changes the regulatory schedule for a rulemaking to address emissions from Category 3 marine engines. See the direct final rule EPA has published in the “Rules and Regulations” section of today's Federal Register for a more extensive discussion of Executive Order 13132.

F. Executive Order 13175: Consultation and Coordination With Indian Tribal Governments

This proposed rule does not have tribal implications. It will not have substantial direct effects on tribal governments, on the relationship between the Federal government and Indian tribes, or on the distribution of power and responsibilities between the Federal government and Indian tribes, as specified in Executive Order 13175. This proposed rule does not uniquely affect the communities of Indian Tribal Governments. Further, no circumstances specific to such communities exist that would cause an impact on these communities beyond those discussed in the other sections of this rule. This proposed rule merely changes the regulatory schedule for a rulemaking to address emissions from Category 3 marine engines. Thus, Executive Order 13175 does not apply to this rule. See the direct final rule EPA has published in the “Rules and Regulations” section of today's Federal Register for a more extensive discussion of Executive Order 13132.

G. Executive Order 13045: Protection of Children From Environmental Health and Safety Risks

This proposed rule is not subject to the Executive Order because it is not economically significant, and does not involve decisions on environmental health or safety risks that may disproportionately affect children. See the direct final rule EPA has published in the “Rules and Regulations” section of today's Federal Register for a more extensive discussion of Executive Order 13045.

H. Executive Order 13211: Actions That Significantly Affect Energy Supply, Distribution, or Use

This proposed rule is not a “significant energy action” as defined in Executive Order 13211, “Actions Concerning Regulations That Significantly Affect Energy Supply, Distribution, or Use” (66 FR 28355, May 22, 2001) because it is not likely to have a significant adverse effect on the supply, distribution or use of energy. This proposed rule merely changes the regulatory schedule for a rulemaking to address emissions from Category 3 marine engines.

I. National Technology Transfer and Advancement Act

This proposed rule does not involve technical standards. Therefore, EPA is not considering the use of any voluntary consensus standards. This proposed rule merely changes the regulatory schedule for a rulemaking to address emissions from Category 3 marine engines. Thus, we have determined that the requirements of the NTTAA do not apply. See the direct final rule EPA has published in the “Rules and Regulations” section of today's Federal Register for a more extensive discussion of NTTAA policy.

J. Executive Order 12898: Federal Actions To Address Environmental Justice in Minority Populations and Low-Income Populations

EPA has determined that this proposed rule will not have disproportionately high and adverse human health or environmental effects on minority or low-income populations because it does not affect the level of protection provided to human health or the environment. See the direct final rule EPA has published in the “Rules and Regulations” section of today's Federal Register for a more extensive discussion of Executive Order 13045.

K. Statutory Authority

The statutory authority for this action comes from section 213 of the Clean Air Act as amended (42 U.S.C. 7547). This action is a notice of proposed rulemaking subject to the provisions of Clean Air Act section 307(d). See 42 U.S.C. 7607(d).

List of Subjects in 40 CFR Part 94

Environmental protection, Administrative practice and procedure, Air pollution control, Confidential business information, Imports, Penalties, Reporting and recordkeeping requirements, Vessels, Warranties.

Dated: April 23, 2007.
Stephen L. Johnson,
Administrator.

[FR Doc. E7-8103 Filed 4-26-07; 8:45 am]

BILLING CODE 6560-50-P